DEPARTMENT OF COMMERCE

National Institute of Standards and Technology

National Artificial Intelligence Advisory Committee

AGENCY: National Institute of Standards and Technology, Department of Commerce.

ACTION: Notice of open meeting.

SUMMARY: The National Institute of Standards and Technology (NIST) announces that the National Artificial Intelligence Advisory Committee (NAIAC or Committee) will hold an open meeting in-person and virtually via web conference on February 22, 2024, from 9 a.m.-4 p.m. eastern time. The primary purpose of this meeting is for the Committee to report working group findings, identify actionable recommendations, receive public briefings and receive an update from the NAIAC Law Enforcement Subcommittee. The final agenda will be posted to the NAIAC website: ai.gov/naiac/.

DATES: The meeting will be held on Thursday, February 22, 2024, from 9 a.m.-4 p.m. eastern time.

ADDRESSES: The meeting will be held in-person and virtually via web conference from the U.S. Department of Commerce, Herbert C. Hoover Federal Building, located at 1401 Constitution Ave. NW, Washington, DC 20230. For instructions on how to attend and/or participate in the meeting, please see the SUPPLEMENTARY INFORMATION section of this notice.

FOR FURTHER INFORMATION CONTACT: Alicia Chambers, Committee Liaison Officer, National Institute of Standards and Technology, 100 Bureau Drive, MS 8900, Gaithersburg, MD 20899, alicia.chambers@nist.gov or 301-975-5333, or Cheryl Gendron, Designated Federal Officer, National Institute of Standards and Technology, 100 Bureau Drive, MS 8900, Gaithersburg, MD 20899, cheryl.gendron@nist.gov. Please direct any inquiries to naiac@nist.gov.

SUPPLEMENTARY INFORMATION: Pursuant to the Federal Advisory Committee Act, as amended, 5 U.S.C. 1001 et seq., notice is hereby given that the NAIAC will meet on Thursday, February 22, 2024, from 9 a.m.-4 p.m. eastern time. The meeting will be open to the public and will be held in-person and virtually via web conference. The primary purpose of this meeting is for the Committee to report working group findings, identify actionable recommendations, receive public briefings and receive an update from the NAIAC Law Enforcement Subcommittee. The final agenda and meeting time will be posted to the NAIAC website: https://www.nist.gov/itl/national-artificial-intelligence-advisory-committee-naiac.

The NAIAC is authorized by section 5104 of the National Artificial Intelligence Initiative Act of 2020 (Pub. L. 116-283), in accordance with the provisions of the Federal Advisory Committee Act, as amended (FACA), 5 U.S.C. 1001 et seq. The Committee advises the President and the National Artificial Intelligence Initiative Office on matters related to the National Artificial Intelligence Initiative. Additional information on the NAIAC is available at ai.gov/naiac/.

Comments: The National Artificial Intelligence Advisory Committee (NAIAC) Workforce and Opportunity Working Group seeks public feedback into ways the nation can support people's lifetime employment and career success as they navigate changes in jobs and the economy brought on by AI, automation, and other factors. The Working Group would appreciate receiving expressions of interest in participating in public dialogues throughout 2024 addressing the following:

1. Perspectives from workers on the impact of automation, AI, and other factors in their lives, jobs, and careers. This could include feedback on the nature and quality of support programs and resources available to them and ideas for how employers, government, and other stakeholders can help them today.

2. Ideas for new frontiers for supporting workers, career pathways, and otherwise expanding opportunity as AI changes the economy and nature of work. This could include: explaining data and knowledge gaps that, if closed, would help workers, organizations, policymakers, and others make better, data-informed decisions; and, elaborating on nascent ideas and innovations with the potential for national impact and scale.

Individuals and representatives of organizations who would like to offer comments and suggestions related to items on the Committee's agenda for this meeting are invited to submit comments in advance of the meeting. Approximately ten minutes will be reserved for public comments, which will be read on a first-come, first-served basis. Please note that all comments submitted via email will be treated as public documents and will be made available for public inspection. All comments must be submitted via email with the subject line “February 22, 2024, NAIAC Meeting Comments” to naiac@nist.gov by 5 p.m. eastern Time, Tuesday, February 20, 2024. NIST will not accept comments accompanied by a request that part or all of the comment be treated confidentially because of its business proprietary nature or for any other reason. Therefore, do not submit confidential business information or otherwise sensitive, protected, or personal information, such as account numbers, Social Security numbers, or names of other individuals.

Virtual Admittance Instructions: The meeting will be broadcast virtually via web conference. Registration is required to view the web conference. Instructions to register will be made available on NAIAC Meeting Information website. Registration will remain open until the conclusion of the meeting.

In-Person Admittance Instruction: Limited space is available on a first-come, first-served basis for anyone who wishes to attend in person. Registration is required for in-person attendance. Registration details will be posted at NAIAC Meeting Information website. Registration for in-person attendance will close at 5 p.m. eastern time on Tuesday, February 20, 2024.

Alicia Chambers,
NIST Executive Secretariat.

[FR Doc. 2024-02086 Filed 2-1-24; 8:45 am]

BILLING CODE 3510-13-P